DEPARTMENT OF ENERGY

Federal Energy Regulatory Commission

Combined Notice of Filings #1

Correction

In notice document 2013-06515, appearing on pages 17391-17392 in the issue of Thursday, March 21, 2013, make the following correction:

On page 17391, in the center column, on the thirteenth line, “ER109-1997-000” should read “ER10-1997-000”.

[FR Doc. C1-2013-06515 Filed 3-26-13; 8:45 am]

BILLING CODE 1505-01-D